INTERNATIONAL TRADE COMMISSION

[Investigation No. 337-TA-992]

Certain Height-Adjustable Desk Platforms and Components Thereof; Commission Determination Not To Review an Initial Determination Granting a Joint Motion To Terminate the Investigation Based on a Settlement Agreement; Termination of the Investigation

AGENCY: U.S. International Trade Commission.

ACTION: Notice.

SUMMARY: Notice is hereby given that the U.S. International Trade Commission has determined not to review an initial determination (“ID”) (Order No. 8) granting a joint motion to terminate the investigation based on a settlement agreement.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on April 25, 2016, based on a complaint filed by Varidesk LLC of Coppell, Texas (“Complainant”). 81 FR 24128, 24128-29 (Apr. 25, 2016). The complaint, as supplemented, alleges violations of section 337 of the Tariff Act of 1930, as amended, 19 U.S.C. 1337, in the importation into the United States, the sale for importation, and the sale within the United States after importation of certain height-adjustable desk platforms and components thereof by reason of infringement of certain claims of U.S. Patent Nos. 9,113,703 and 9,277,809. Id. at 24129. The notice of investigation names as respondents Nortek, Inc. of Providence, Rhode Island and Ergotron, Inc. of St. Paul, Minnesota (“Respondents”). Id. The Office of Unfair Import Investigations was not named as a party to the investigation. Id.

On October 12, 2016, Complainant and Respondents filed a joint motion to terminate the investigation based on a settlement agreement.

On October 14, 2016, the presiding administrative law judge (“ALJ”) issued an ID (Order No. 8) granting the motion. The ALJ found the requirements of Commission Rule 210.21(b)(1) were met. The ALJ also found that termination of the investigation was not contrary to the public interest, and that termination was in the public interest and will conserve public and private resources. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: November 3, 2016.
Lisa R. Barton,
Secretary to the Commission.

[FR Doc. 2016-26955 Filed 11-7-16; 8:45 am]

BILLING CODE 7020-02-P